DEPARTMENT OF TRANSPORTATION

Federal Aviation Administration

14 CFR Part 39

[Docket No. FAA-2013-0878; Directorate Identifier 2013-SW-033-AD; Amendment 39-17625; AD 2013-21-01]

RIN 2120-AA64

Airworthiness Directives; Eurocopter France (Eurocopter) Helicopters

AGENCY: Federal Aviation Administration (FAA), Department of Transportation (DOT).

ACTION: Final rule; request for comments.

SUMMARY: We are adopting a new airworthiness directive (AD) for Eurocopter Model AS350B, AS350BA, AS350B1, AS350B2, AS350B3, AS350C, AS350D, AS350D1, AS355E, AS355F, AS355F1, AS355F2, AS355N, and AS355NP helicopters. This AD requires certain inspections of each tail rotor pitch horn assembly (pitch horn) for a crack, and if there is a crack, before further flight, replacing the pitch horn with an airworthy pitch horn. This AD is prompted by a report of a crack in the yoke of a pitch horn. These actions are intended to detect a crack in the pitch horn to prevent failure of the pitch horn, loss of the anti-torque function, and subsequent loss of control of the helicopter.

DATES: This AD becomes effective October 25, 2013.

The Director of the Federal Register approved the incorporation by reference of a certain document listed in this AD as of October 25, 2013.

We must receive comments on this AD by December 24, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the foreign authority's AD, any incorporated-by-reference service information, the economic evaluation, any comments received, and other information. The street address for the Docket Operations Office (telephone 800- 647-5527) is in the ADDRESSES section. Comments will be available in the AD docket shortly after receipt.

For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are adopting a new AD for the specified Eurocopter helicopters. This AD requires visually inspecting each pitch horn for a crack. This AD also requires, if there is a crack, before further flight, replacing the pitch horn with an airworthy pitch horn. This AD is prompted by a report of a crack in the yoke of a pitch horn. These actions are intended to detect a crack in the pitch horn to prevent failure of the pitch horn, loss of the anti-torque function, and subsequent loss of control of the helicopter.

The European Aviation Safety Agency (EASA), which is the Technical Agent for the Member States of the European Union, has issued EASA AD No. 2013-0133, dated June 28, 2013, to correct an unsafe condition for the Model AS350B, AS350BA, AS350BB, AS350B1, AS350B2, AS350B3, AS350D, AS355E, AS355F, AS355F1, AS355F2, AS355N, and AS355NP helicopters. EASA advises of an ongoing investigation of a crack in the yoke of a pitch horn for which a cause has not been determined. The EASA AD requires repetitive visual inspections of each pitch horn for a crack and replacing the pitch horn with a serviceable assembly if a crack is found. EASA states that its AD is an interim action and further action may follow.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Eurocopter has issued one Emergency Alert Service Bulletin, Revision 1, dated June 25, 2013 (EASB), with four different numbers. EASB No.05.00.74 is for Models AS350B, B1, B2, B3, BA, and D; the non-FAA type certificated Model AS350BB; and the non-FAA type certificated military Model AS350L1 helicopters. EASB No. 05.00.49 is for non-FAA type certificated military Models AS550A2, C2, C3, and U2 helicopters. EASB No. 05.00.65 is for Models AS355E, F, F1, F2, N, and NP helicopters. EASB No. 05.00.44 is for non-FAA type certificated military Model AS555AF, AN, SN, UF, and UN helicopters. Eurocopter has been informed of a case of a crack on the yoke of a pitch horn, which may lead to failure of the pitch horn, resulting in loss of the anti-torque function. The EASB specifies a check for cracks on the yokes of the two pitch horns and specifies replacing any cracked pitch horn. The EASB states that it may be necessary to modify the log card of the tail rotor blade assembly due to some of the pitch horn part numbers being recorded incorrectly.

AD Requirements

This AD requires:

• Based on the hours time-in-service, within a specified time, visually inspecting each pitch horn for a crack in the areas shown in Figure 1 of the EASB.

• If there is a crack, before further flight, replacing the pitch horn with an airworthy pitch horn.

• Before installing any pitch horn, P/N 350A121368, dye penetrant inspecting it for a crack.

Differences Between This AD and the EASA AD

The EASA AD applies to Eurocopter Model AS350BB that does not have an FAA type certificate and therefore is not a part of this AD. The EASA AD does not apply to Eurocopter Model AS350C or the AS350D1, but this AD does because those models have an FAA type certificate and may have the applicable pitch horn installed. This AD requires a dye-penetrant inspection before installing a pitch horn; the EASA AD does not. The EASA AD applies to parts with less than 135 hours TIS, while this AD does not. The EASA AD requires the pitch horn inspection to be repeated every 165 flight hours, and this AD does not.

Interim Action

We consider this AD to be an interim action. If final action is later identified, we might consider further rulemaking then.

Costs of Compliance

We estimate that this AD will affect 938 helicopters of U.S. Registry. We estimate that operators may incur the following costs to comply with this AD. Labor costs are estimated at $85 per work hour. We estimate .1 work hour to visually inspect a pitch horn for a total of $8.50 per helicopter and $7,973 for the fleet. We estimate 1 work hour to do a dye-penetrant inspection, for a total cost of $85 per helicopter. We estimate 1 work hour to replace a part if necessary, and a cost for required parts of $1,946, for a total cost of $2,031 per helicopter.

FAA's Justification and Determination of the Effective Date

Providing an opportunity for public comments before adopting these AD requirements would delay implementing the safety actions needed to correct this known unsafe condition. Therefore we find that the risk to the flying public justifies waiving notice and comment prior to adopting this rule because the corrective actions must be accomplished, for helicopters flying with parts with more than 155 hours TIS, within 10 hours TIS, a short time period based on the average flight-hour utilization rate of these helicopters.

Since an unsafe condition exists that requires the immediate adoption of this AD, we determined that notice and opportunity for public comment before issuing this AD are impracticable and contrary to the public interest and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-21-01 Eurocopter France: Amendment 39-17625; Docket No. FAA-2013-0878; Directorate Identifier 2013-SW-033-AD.

(a) Applicability

This AD applies to Eurocopter France (Eurocopter) Model AS350B, AS350BA, AS350B1, AS350B2, AS350B3, AS350C, AS350D, AS350D1, AS355E, AS355F, AS355F1, AS355F2, AS355N, and AS355NP helicopters with tail rotor hub pitch horn (pitch horn) assembly, part number (P/N) 350A121368.01, 350A121368.02, 350A121368.03, or 350A121368.04, with a pitch horn, P/N 350A121368.XX, where XX stands for two digit dash number, installed, certificated in any category. The pitch horn may be marked with either the pitch horn assembly P/N or pitch horn P/N.

(b) Unsafe Condition

This AD defines the unsafe condition as a crack in the yoke of a pitch horn. This condition could result in failure of a pitch horn, loss of the anti-torque function, and subsequent loss of control of the helicopter.

(c) Effective Date

This AD becomes effective October 25, 2013.

(d) Compliance

You are responsible for performing each action required by this AD within the specified compliance time unless it has already been accomplished prior to that time.

(e) Required Actions

(1) For parts with 135 to 155 hours time-in-service (TIS), before exceeding 165 hours TIS, or for parts with more than 155 hours TIS, within 10 hours TIS, visually inspect each pitch horn for a crack in the areas shown in Figure 1 of Eurocopter Emergency Alert Service Bulletin (EASB) No. 05.00.74 or No. 05.00.65, both Revision 1 and both dated June 25, 2013, as appropriate for your model helicopter.

(2) If there is a crack, before further flight, replace the pitch horn with an airworthy pitch horn.

(3) Do not install a pitch horn, P/N 350A121368 (any dash number), on any helicopter unless it has passed a dye penetrant inspection for a crack in the areas shown in Figure 1 of EASB No. 05.00.74 or No. 05.00.65.

(f) Special Flight Permits

Special flight permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) No. AD 2013-0133, dated June 28, 2013. You may view the EASA AD on the Internet at http://www.regulations.gov in Docket No. FAA-2013-0878.

(i) Subject

Joint Aircraft Service Component (JASC) Code: 6400 Tail Rotor.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Emergency Alert Service Bulletin No. 05.00.74, Revision 1, dated June 25, 2013.

(ii) Eurocopter Emergency Alert Service Bulletin No. 05.00.65, Revision 1, dated June 25, 2013.

Note to paragraph (j)(2): Eurocopter Emergency Alert Service Bulletin No. 05.00.74 and No. 05.00.65, both Revision 1 and both dated June 25, 2013, are co-published as one document along with Eurocopter Emergency Alert Service Bulletin No. 05.00.49 and No. 05.00.44, both Revision 1 and both dated June 25, 2013, which are not incorporated by reference in this AD.

(3) For Eurocopter service information identified in this AD, American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on October 7, 2013.
Kim Smith,
Manager, Rotorcraft Directorate, Aircraft Certification Service.

[FR Doc. 2013-24816 Filed 10-24-13; 8:45 am]

BILLING CODE 4910-13-P